DEPARTMENT OF TRANSPORTATION

Pipeline and Hazardous Materials Safety Administration

[Docket No. PHMSA-2015-0209; Notice No. 15-21]

Hazardous Materials: Explosive Approvals—Compliance With Special Provision 347

AGENCY: Pipeline and Hazardous Materials Safety Administration (PHMSA), DOT.

ACTION: Proposed termination of explosive approvals.

SUMMARY: PHMSA proposes to terminate the explosive approvals listed herein. PHMSA, via certified mail, attempted to contact all of the below listed approval holders during the month of October 2014. The certified letters were titled “Hazardous Materials Safety Law Division, Letter of Warning: Test Series 6(d) requirements for Division 1.4S Explosive Approvals.” The certified letters requested that the approval holders notify PHMSA within 30 days with their intent with respect to the approvals. They were given the options to provide evidence of UN 6(d) testing, request a reassignment of the EX number to a higher compatibility group than “S”, or request termination. To date, no correspondence has been received by PHMSA concerning the below listed explosive approval numbers.

FOR FURTHER INFORMATION CONTACT: Mr. Ryan Paquet, Director, Approvals and Permits Division, Office of Hazardous Materials Safety, (202) 366-4512, PHMSA, 1200 New Jersey Avenue SE., Washington, DC 20590. Correspondence with respect to the below listed explosive approval numbers should be sent to explo@dot.gov, subject line—“UN 6(d) Testing” or respond to the listed address for Mr. Ryan Paquet.

SUPPLEMENTARY INFORMATION:

I. Introduction

In this notice, PHMSA's Office of Hazardous Materials Safety (OHMS) is proposing to terminate the approvals listed below for the approval holders' failure to provide PHMSA with evidence that UN 6(d) testing has been performed in accordance with 49 CFR 172.102(c)(1) (Special Provision 347) or requesting a reassignment of the EX number to a higher compatibility group other than “S”.

II. Background

On January 19, 2011, PHMSA published a final rule (76 FR 3308; HM-215K) titled “Hazardous Materials: Harmonization with the United Nations Recommendations, International Maritime Dangerous Goods Code, and the International Civil Aviation Organization Technical Instructions for the Safe Transport of Dangerous Goods by Air”. The final rule amended Special Provision 347 to require successful testing according to UN Test Series 6(d) of Part I of the UN Manual of Tests and Criteria. This change affected explosives classified as Division 1.4S, and impacted eight UN Numbers, including: UN0323, UN0366, UN0441, UN0445, UN0455, UN0456, UN0460, and UN0500. This requirement became effective for transportation by aircraft on July 1, 2011, for transportation by vessel on January 1, 2012, and for domestic highway and rail transportation on January 1, 2014. PHMSA has no records of the required UN 6(d) testing for the below listed EX numbers.

III. Action

PHMSA will terminate the below listed approvals 30 days after this notice is published in the Federal Register, unless the holder requests reconsideration as outlined in 49 CFR 107.715.

IV. Approvals Scheduled for Termination

EX No. | Holder/company
EX1986060084 | Overland Aviation Services Company, Inc.
EX1986060085 | Overland Aviation Services Company, Inc.
EX1986060086 | Overland Aviation Services Company, Inc.
EX1986060087 | Overland Aviation Services Company, Inc.
EX1986060088 | Overland Aviation Services Company, Inc.
EX1986060089 | Overland Aviation Services Company, Inc.
EX1986060090 | Overland Aviation Services Company, Inc.
EX1986060091 | Overland Aviation Services Company, Inc.
EX1986060092 | Overland Aviation Services Company, Inc.
EX1986060093 | Overland Aviation Services Company, Inc.
EX1986060094 | Overland Aviation Services Company, Inc.
EX1986060095 | Overland Aviation Services Company, Inc.
EX1986060096 | Overland Aviation Services Company, Inc.
EX1986060097 | Overland Aviation Services Company, Inc.
EX1986060098 | Overland Aviation Services Company, Inc.
EX1986060099 | Overland Aviation Services Company, Inc.
EX1986060100 | Overland Aviation Services Company, Inc.
EX1986060101 | Overland Aviation Services Company, Inc.
EX1986060102 | Overland Aviation Services Company, Inc.
EX1986060103 | Overland Aviation Services Company, Inc.
EX1987020126 | Hi-Shear Technology Corporation.
EX1987030332A | Teledyne McCormick Selph.
EX1987060024 | BAE Systems (formerly Tracor Aerospace, Inc.—Arkansas Operations).
EX1987060025 | BAE Systems (formerly Tracor Aerospace, Inc.—Arkansas Operations).
EX1987070074 | Morton Thiokol, Inc.—Elkton Division.
EX1987070148 | Stresau Laboratory, Inc.
EX1987090043 | Accurate Energetic Systems, LLC.
EX1987100321 | Irvin Industries, Inc.
EX1987110222 | Kidde Fenwal (formerly, Fenwal Safety Systems, Inc.).
EX1988030074 | Armor Holding, Inc. Co.
EX1988030075 | Armor Holding, Inc. Co.
EX1988080029 | Lockheed Martin Corporation, Vought Systems (formerly LTV Missiles).
EX1989090127 | Day & Zimmermann, Inc.
EX1989100085 | U.S. Department of Energy.
EX1989110010 | Overland Aviation Services Company, Inc.
EX1989120028 | Conax Florida Corporation.
EX1990040344 | Atlantic Research Corporation.
EX1990060035 | Conax Florida Corporation.
EX1990060149 | U.S. Department of Energy.
EX1990060150 | U.S. Department of Energy.
EX1990060151 | U.S. Department of Energy.
EX1990060152 | U.S. Department of Energy.
EX1990060153 | U.S. Department of Energy.
EX1990060154 | U.S. Department of Energy.
EX1990090111 | Conax Florida Corporation.
EX1990090112 | Conax Florida Corporation.
EX1990090218 | DuPont Chemicals.
EX1990090219 | DuPont Chemicals.
EX1990090220 | DuPont Chemicals.
EX1990090221 | DuPont Chemicals.
EX1990090222 | DuPont Chemicals.
EX1990090223 | DuPont Chemicals.
EX1990090224 | DuPont Chemicals.
EX1990090225 | DuPont Chemicals.
EX1990090226 | DuPont Chemicals.
EX1990090227 | DuPont Chemicals.
EX1990090228 | DuPont Chemicals.
EX1990090229 | DuPont Chemicals.
EX1990090230 | DuPont Chemicals.
EX1990100010 | Conax Florida Corporation.
EX1990120121 | U.S. Department of Energy.
EX1991010042 | Hercules Aerospace Company.
EX1991010043 | Hercules Aerospace Company.
EX1991040147B | Daicel Chemical Industries, Ltd.
EX1991040148 | Daicel Chemical Industries, Ltd.
EX1991050265 | Conax Florida Corporation.
EX1991050282 | Martin Electronics, Inc.
EX1991060062 | Kidde-Graviner Limited.
EX1991060237 | Mecano-Tech, Inc.
EX1991060238 | Mecano-Tech, Inc.
EX1991060239 | Mecano-Tech, Inc.
EX1991060240 | Mecano-Tech, Inc.
EX1991060241 | Mecano-Tech, Inc.
EX1991060242 | Mecano-Tech, Inc.
EX1991060243 | Mecano-Tech, Inc.
EX1991060244 | Mecano-Tech, Inc.
EX1991060245 | Mecano-Tech, Inc.
EX1991060246 | Mecano-Tech, Inc.
EX1991060247 | Mecano-Tech, Inc.
EX1991060248 | Mecano-Tech, Inc.
EX1991100087 | Conax Florida Corporation.
EX1991100088 | Conax Florida Corporation.
EX1991110085 | Aerospatiale Helicopter Corporation.
EX1991110251 | Mecano-Tech, Inc.
EX1991110252 | Mecano-Tech, Inc.
EX1991110253 | Mecano-Tech, Inc.
EX1991110254 | Mecano-Tech, Inc.
EX1992010163 | Conax Florida Corporation.
EX1992010166 | Conax Florida Corporation.
EX1992010167 | Conax Florida Corporation.
EX1992010168 | Conax Florida Corporation.
EX1992010196 | U.S. Department of Energy.
EX1992020009 | Applied Energy Technology Corporation.
EX1992020010 | Applied Energy Technology Corporation.
EX1992020011 | Applied Energy Technology Corporation.
EX1992020012 | Applied Energy Technology Corporation.
EX1992070022 | Conax Florida Corporation.
EX1992110059 | Teledyne McCormick Selph.
EX1993050235 | Royal Ordnance Plc.
EX1993080189 | Mecano-Tech, Inc.
EX1993080190 | Mecano-Tech, Inc.
EX1993080191 | Mecano-Tech, Inc.
EX1993080192 | Mecano-Tech, Inc.
EX1993080193 | Mecano-Tech, Inc.
EX1993080194 | Mecano-Tech, Inc.
EX1993080195 | Mecano-Tech, Inc.
EX1993080196 | Mecano-Tech, Inc.
EX1993080277 | Mecano-Tech, Inc.
EX1993080278 | Mecano-Tech, Inc.
EX1993080279 | Mecano-Tech, Inc.
EX1993080280 | Mecano-Tech, Inc.
EX1993080281 | Mecano-Tech, Inc.
EX1993080282 | Mecano-Tech, Inc.
EX1993080283 | Mecano-Tech, Inc.
EX1993090038 | Overland Aviation Services Company, Inc.
EX1993090039 | Overland Aviation Services Company, Inc.
EX1993090040 | Overland Aviation Services Company, Inc.
EX1993090041 | Overland Aviation Services Company, Inc.
EX1993090042 | Overland Aviation Services Company, Inc.
EX1993090043 | Overland Aviation Services Company, Inc.
EX1993090044 | Overland Aviation Services Company, Inc.
EX1994030058 | Olin Corporation—Winchester Division.
EX1994050293 | Teledyne McCormick Selph.
EX1994090107 | Royal Ordnance Plc.
EX1994100002 | Allied Signal, Inc.
EX1994100003 | Allied Signal, Inc.
EX1994120149 | Pacific Scientific/Energy Dynamics Div. (PS/EDD).
EX1995060001 | Austin Powder Company.
EX1995060002 | Austin Powder Company.
EX1995120030 | British Aerospace Defence Limited.
EX1996080062 | Water Well Redevelopers, Inc.
EX1996100133 | Dynamit Nobel GmbH.
EX1996100134 | Dynamit Nobel GmbH.
EX1996100135 | Dynamit Nobel GmbH.
EX1996100136 | Dynamit Nobel GmbH.
EX1997050058 | Illinois Tool Works (ITW) SPIT.
EX1997050127 | Ensign-Bickford Company.
EX1997050128 | Ensign-Bickford Company.
EX1997080110 | Kidde-Fenwal, Inc.
EX1997100009 | Martin Electronics, Inc.
EX1997110018 | Pacific Scientific/Energy Dynamics Div. (PS/EDD).
EX1998090010 | Ensign-Bickford Company.
EX1998090011 | Ensign-Bickford Company.
EX1998090012 | Ensign-Bickford Company.
EX1998090013 | Ensign-Bickford Company.
EX1998090014 | Ensign-Bickford Company.
EX1998090015 | Ensign-Bickford Company.
EX1998090016 | Ensign-Bickford Company.
EX1998090017 | Ensign-Bickford Company.
EX1998090018 | Ensign-Bickford Company.
EX1998090129 | Ensign-Bickford Company.
EX1998110069 | Accles & Shelvoke Limited.
EX1999010089 | Swartklip Products.
EX1999010221 | Ensign-Bickford Company.
EX1999010222 | Ensign-Bickford Company.
EX1999010223 | Ensign-Bickford Company.
EX1999010224 | Ensign-Bickford Company.
EX1999010225 | Ensign-Bickford Company.
EX1999010227 | Ensign-Bickford Company.
EX1999010228 | Ensign-Bickford Company.
EX1999010229 | Ensign-Bickford Company.
EX1999030008 | Teledyne Ryan Aeronautical—McCormick Selph Ordn.
EX1999030073 | Nato Ammo Depot, Glen Douglas.
EX1999090169 | Mecano-Tech, Inc.
EX1999100004 | Pains-Wessex, Limited.
EX1999110049 | Teledyne Ryan Aeronautical—McCormick Selph Ordn.
EX2000040159 | Swartklip Products.
EX2000080028 | The Boeing Company.
EX2000090072 | Swartklip Products.
EX2000090120 | Daicel Chemical Industries, Ltd.
EX2000120150 | Swartklip Products.
EX200030318A | LifeSparc.
EX2001010178 | Diplomat Freight Services.
EX2001010186 | Action Manufacturing Company.
EX2001040019 | Ridgeway International Limited.
EX2001050013 | Somchem, division of Denel (Pty) Ltd.
EX2001050187 | Pacific Scientific.
EX2001050188 | Pacific Scientific.
EX2002100057A | LifeSparc.
EX2002100057B | LifeSparc.
EX2003030318 | LifeSparc.
EX2003060206 | Universal Propulsion Company Seating & Propulsion Systems.
EX2003060206A | Universal Propulsion Company, Inc.
EX2003060206B | Universal Propulsion Company Goodrich Corporation.
EX2003070009 | Daicel Chemical Industries, Ltd.
EX2003070288 | Nippon Kayaku Company, Ltd.
EX2003070293 | Nippon Kayaku Company, Ltd.
EX2003080080 | Dyno Nobel, Inc.
EX2003100075 | Ensign-Bickford Aerospace & Defense Company.
EX2003100323 | Delta Caps Canada.
EX2003120602 | Schlumberger.
EX2004030230 | Nippon Kayaku Company, Ltd.
EX2004030230A | Nippon Kayaku Company, Ltd.
EX2004030231 | Nippon Kayaku Company, Ltd.
EX2004030231A | Nippon Kayaku Company, Ltd.
EX2004030262 | QuietSplit, Inc.
EX2004050396 | Dyno Nobel, Inc.
EX2004060022 | Orica Canada, Inc.
EX2004060107 | Cesaroni Technology, Inc.
EX2004070192 | Headquarters 1st Joint Movement Group.
EX2004070194 | Headquarters 1st Joint Movement Group.
EX2004080006 | Nippon Kayaku Company, Ltd.
EX2004080006A | Nippon Kayaku Company, Ltd.
EX2004100158 | Nippon Kayaku Company, Ltd.
EX2004100158A | Nippon Kayaku Company, Ltd.
EX2004100162 | Daicel Safety Systems, Inc.
EX2004100162A | Daicel Safety Systems, Inc.
EX2004100166 | Daicel Safety Systems, Inc.
EX2004100166A | Daicel Safety Systems, Inc.
EX2004100167 | Daicel Safety Systems, Inc.
EX2004100167A | Daicel Safety Systems, Inc.
EX2004110267 | Dyno Nobel, Inc.
EX2004110284 | Yulim Materials Company, Ltd.
EX2005010241 | LifeSparc.
EX2005010241A | LifeSparc.
EX2005020022 | Yamato Protec Corporation.
EX2005030178 | Companhia Brasileira de Cartuchos.
EX2005040440 | Aircraft Interior Products Goodrich Corporation.
EX2005040499 | Daicel Safety Systems, Inc.
EX2005040537 | Daicel Safety Systems, Inc.
EX2005070111 | Kidde Technologies, Inc.
EX2005070130 | Dyno Nobel, Inc.
EX2005070342 | Nippon Kayaku Co., Ltd.
EX2005070342A | Nippon Kayaku Co., Ltd.
EX2005070343 | Nippon Kayaku Co., Ltd.
EX2005070343A | Nippon Kayaku Co., Ltd.
EX2005080084 | LifeSparc.
EX2005090499 | Dyno Nobel, Inc.
EX2005100016 | PC International, Inc.
EX2005100169 | Explosivos Mexicanos, S.A. de C.V.
EX2005120064 | Nippon Kayaku Company, Ltd.
EX2005120064A | Nippon Kayaku Company, Ltd.
EX2006010052 | German Armed Forces Command USA/CA.
EX2006020113 | Pains Wessex Chemring Countermeasures.
EX2006040305 | Nippon Kayaku Co. Ltd.
EX2006040305A | Nippon Kayaku Co. Ltd.
EX2006050221 | Cooper Power Systems Inc.
EX2006060079 | Total Mission.
EX2006060080 | Total Mission.
EX2006070022 | Schlumberger Reservoir Completions.
EX2006070240 | Hubbell Power Systems.
EX2006090244 | Raytheon Missile Systems.
EX2007010612 | International Launch Services.
EX2007030074 | Embassy of Japan.
EX2007030076 | Embassy of Japan.
EX2007030077 | Embassy of Japan.
EX2007030078 | Embassy of Japan.
EX2007030079 | Embassy of Japan.
EX2007030081 | Embassy of Japan.
EX2007030083 | Embassy of Japan.
EX2007040043 | LifeSparc.
EX2007040120 | Embassy of Japan.
EX2007050120 | Raytheon Missile Systems.
EX2007050122 | Pacific Scientific.
EX2007050305 | Orica USA, Inc.
EX2007060050 | Aerojet General Corporation—Redmond Operations.
EX2007070083 | Nippon Kayaku Co., Ltd.
EX2007070084 | Nippon Kayaku Co., Ltd.
EX2007080023 | Nippon Kayaku Co., Ltd.
EX2007080024 | Nippon Kayaku Co., Ltd.
EX2007080367 | Nippon Kayaku Co., Ltd.
EX2007080368 | Nippon Kayaku Co., Ltd.
EX2007110031 | Pacific Scientific.
EX2007120429 | Martin-Baker Aircraft Co. Ltd.
EX2008010381 | Defence Equipment & Support.
EX2008010386 | Defence Equipment & Support.
EX2008010387 | Defence Equipment & Support.
EX2008010412 | LOGOS Imaging LLC.
EX2008020494 | Kidde Technologies, Inc.—Kidde Aerospace.
EX2008040011 | LifeSparc, Inc.
EX2008040023 | German Armed Forces Command USA/CA.
EX2008040033 | elp European Logistics Partners GmbH.
EX2008040083 | Special Devices, Inc.
EX2008040204 | Goodrich Corporation.
EX2008050062 | Orica Canada, Inc.
EX2008050350 | Martin-Baker.
EX2008060030 | Lifesparc, Inc.
EX2008060098 | Defence Equipment and Support.
EX2008060099 | Defence Equipment and Support.
EX2008060257 | Dyno Nobel.
EX2008070080 | Kuwait Air Force.
EX2008120002 | Daicel Safety Technologies Thailand Co., Ltd.
EX2008120003 | Daicel Safety Technologies Thailand Co., Ltd.
EX2008120004 | Daicel Safety Systems (Thailand) Company Ltd.
EX2008120005 | Daicel Safety Systems, Inc.
EX2009050654 | ELP GmbH European Logistic Partners.
EX2009090077 | Universal Propulsion Company, Inc.
EX2009100152 | Defence Equipment and Support.

Issued in Washington, DC, on October 27, 2015 under authority delegated in 49 CFR Part 107.
Magdy El-Sibaie,
Associate Administrator for Hazardous Materials Safety, Pipeline and Hazardous Materials Safety Administration.

[FR Doc. 2015-27784 Filed 10-30-15; 8:45 am]

BILLING CODE 4910-60-P